DEPARTMENT OF TRANSPORTATION

Pipeline and Hazardous Materials Safety Administration

49 CFR Part 173

Shippers—General Requirements for Shipments and Packagings

CFR Correction

In Title 49 of the Code of Federal Regulations, Parts 100 to 177, revised as of October 1, 2013, on page 527, in § 173.62, in paragraph (c)(5), at the end of the Table of Packing Methods, packing instruction US 1 is reinstated to read as follows:

§ 173.62 Specific packaging requirements for explosives.

* * * * *

(c) * * *

(5) * * *

Table of Packing Methods
* * * * * * *
US 1 | 1. A jet perforating gun, charged, oil well may be transported under the following conditions: a. Initiation devices carried on the same motor vehicle or offshore supply vessel must be segregated; each kind from every other kind, and from any gun, tool or other supplies, unless approved in accordance with § 173.56. Segregated initiation devices must be carried in a container having individual pockets for each such device or in a fully enclosed steel container lined with a non-sparking material. No more than two segregated initiation devices per gun may be carried on the same motor vehicle. b. Each shaped charge affixed to the gun may not contain more than 112 g (4 ounces) of explosives. c. Each shaped charge if not completely enclosed in glass or metal, must be fully protected by a metal cover after installation in the gun. d. A jet perforating gun classed as 1.1D or 1.4D may be transported by highway by private or contract carriers engaged in oil well operations. (i) A motor vehicle transporting a gun must have specially built racks or carrying cases designed and constructed so that the gun is securely held in place during transportation and is not subject to damage by contact, one to the other or any other article or material carried in the vehicle; and (ii) The assembled gun packed on the vehicle may not extend beyond the body of the motor vehicle. e. A jet perforating gun classed as 1.4D may be transported by a private offshore supply vessel only when the gun is carried in a motor vehicle as specified in paragraph (d) of this packing method or on offshore well tool pallets provided that: (i) All conditions specified in paragraphs (a), (b), and (c) of this packing method are met; (ii) The total explosive contents do not exceed 90.8 kg (200 pounds) per tool pallet; (iii) Each cargo vessel compartment may contain up to 90.8 kg (200 pounds) of explosive content if the segregation requirements in § 176.83(b) of this subchapter are met; and (iv) When more than one vehicle or tool pallet is stowed “on deck” a minimum horizontal separation of 3 m (9.8 feet) must be provided.

[FR Doc. 2014-17663 Filed 7-24-14; 8:45 am]

BILLING CODE 1505-01-D